DEPARTMENT OF HOMELAND SECURITY

U.S. Customs and Border Protection

Agency Information Collection Activities; Customs-Trade Partnership Against Terrorism (C-TPAT)

AGENCY: U.S. Customs and Border Protection, Department of Homeland Security.

ACTION: 30-Day notice and request for comments; Extension of an existing information collection.

SUMMARY: U.S. Customs and Border Protection (CBP) will be submitting the following information collection request to the Office of Management and Budget (OMB) for review and approval in accordance with the Paperwork Reduction Act: Customs-Trade Partnership Against Terrorism (C-TPAT). This is a proposed extension of an information collection that was previously approved. CBP is proposing that this information collection be extended with a change to the burden hours. This document is published to obtain comments from the public and affected agencies. This information collection was previously published in the Federal Register (78 FR 30934) on May 23, 2013, allowing for a 60-day comment period. This notice allows for an additional 30 days for public comments. This process is conducted in accordance with 5 CFR 1320.10.

DATES: Written comments should be received on or before August 26, 2013 to be assured of consideration.

ADDRESSES: Interested persons are invited to submit written comments on this information collection to the Office of Information and Regulatory Affairs, Office of Management and Budget. Comments should be addressed to the OMB Desk Officer for U.S. Customs and Border Protection, Department of Homeland Security, and sent via electronic mail to oira_submission@omb.eop.gov or faxed to (202) 395-5806.

FOR FURTHER INFORMATION CONTACT: Tracey Denning, U.S. Customs and Border Protection, Regulations and Rulings, Office of International Trade, 90 K Street NE., 10th Floor, Washington, DC 20229-1177, at 202-325-0265.

SUPPLEMENTARY INFORMATION: CBP invites the general public and affected Federal agencies to submit written comments and suggestions on proposed and/or continuing information collection requests pursuant to the Paperwork Reduction Act of 1995 (Pub. L. 104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Customs-Trade Partnership Against Terrorism (C-TPAT).

OMB Number: 1651-0077.

Form Number: None.

Abstract: The Customs-Trade Partnership Against Terrorism (C-TPAT) Program is designed to safeguard the world's trade industry from terrorists and smugglers by prescreening its participants. The C-TPAT Program applies to United States importers, customs brokers, consolidators, port and terminal operators, carriers and foreign manufacturers. Respondents apply to participate in C-TPAT using an on-line application at https://ctpat.cbp.dhs.gov/CompanyProfile.aspx. The information collected includes the applicant's contact information and business information including the number of employees, the number of years in business, and a list of company officers. This information collection was authorized by the SAFE Port Act (Pub. L. 109-347).

Current Actions: This submission is being made to extend the expiration date with a change to the burden hours as a result of updated estimates for the number of annual respondents. There is no change to the C-TPAT application or to the information collected.

Type of Review: Extension (with change).

Affected Public: Businesses.

Estimated Number of Respondents: 2,541.

Estimated Time per Respondent: 5 hours.

Estimated Total Annual Hours: 12,705.

Dated: July 22, 2013.
Tracey Denning,
Agency Clearance Officer, U.S. Customs and Border Protection.

[FR Doc. 2013-17880 Filed 7-24-13; 8:45 am]

BILLING CODE 9111-14-P